DEPARTMENT OF AGRICULTURE

Food and Nutrition Service

Agency Information Collection Activities: Proposed Collection; Comment Request—Form FNS-380, Worksheet for Supplemental Nutrition Assistance Program (SNAP) Quality Control (QC) Reviews

AGENCY: Food and Nutrition Service (FNS), USDA.

ACTION: Notice.

SUMMARY: In accordance with the Paperwork Reduction Act of 1995, this notice invites the general public and other public agencies to comment on this proposed information collection. This collection is a renewal of a currently approved information collection request.

DATES: Written comments must be received on or before August 16, 2019.

ADDRESSES: Comments may be sent to: Stephanie Proska, Food and Nutrition Service, U.S. Department of Agriculture, 3101 Park Center Drive, Room 822, Alexandria, VA 22302. Comments may also be submitted via fax to the attention of Stephanie Proska at 703-305-0928 or via email to SNAPHQ-WEB@fns.usda.gov. Comments will also be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Stephanie Proska at 703-305-2437.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: Worksheet for the Supplemental Nutrition Assistance Program's Quality Control Reviews.

Form Number: FNS 380.

OMB Control Number: 0584-0074.

Expiration Date: September 30, 2019.

Type of Request: Renewal of a currently approved collection.

Abstract: Section 16 of the Food and Nutrition Act of 2008 provides the legislative basis for the operation of the Quality Control (QC) system. Part 275, Subpart C, of SNAP regulations implements the legislative mandates found in Section 16. Regulations at 7 CFR 275.1, 275.14(d) and 275.21(a) and (b)(1) provide the regulatory basis for the QC reporting requirements.

Section 11(a) of the Food and Nutrition Act of 2008 provides the legislative basis for the recordkeeping requirements. SNAP regulations, at 7 CFR 272.1(f), specify that program records must be retained for three years from the month of origin. Regulations at 7 CFR 275.4 specifically address record retention requirements for form FNS-380.

Form FNS-380, is a SNAP worksheet used to determine eligibility and benefits for households selected for review in the QC sample of active SNAP cases. This form provides a systematic means of aiding the State's Quality Control Reviewer in analyzing the case record, planning and doing field investigation and gathering, comparing, analyzing and evaluating data.

We estimate the total reporting burden for the collection of information to support SNAP QC as 428,745.53 hours. This includes approximately 8.9 hours for State Agencies to analyze each household case record including planning and carrying out the field investigation; gathering, comparing, analyzing and evaluating the review data and forwarding selected cases to the Food and Nutrition Service for Federal validation, totaling approximately 404,923.30 hours for the entire caseload. We are also including an average interview burden of 30 minutes (0.5 hours) for each household, creating a reporting burden for them for 22,748.50 hours. Additionally, we estimate the recordkeeping burden per record for the State Agencies to be 0.0236 hours, thereby making the recordkeeping burden associated with this information collection for the State Agencies to be 1,073.73 hours. The total estimated reporting and recordkeeping burden for this collection is 428,745.53 hours and 136,491 total annual responses for reporting and recordkeeping.

Based on the most recent table of active case sample sizes and completion rates (FY2017), we estimate 45,497 FNS-380 worksheets and interviews will now be completed annually. We are requesting a three-year approval from OMB for this information collection.

Affected Public: 45,550 (Households, and State, Local and Tribal Governments: Respondent groups identified include: 45,497 Households and 53 State Agencies).

Estimated Number of Responses per Respondent: 1,718 (The total number of responses per household is 1 and total number of responses per State, Local and Tribal Governments is 1,717 to include reporting and recordkeeping responses).

Estimated Total Annual Responses: 136,491. This includes 45,497 sampled active cases for QC review, 45,497 reporting households, and 45,497 records being maintained by 53 State Agencies.

Estimated Time per Response: 9.42 hours (The estimated time of response for State Agencies to report is approximately 534 minutes, 30 minutes for households to report, and the estimated response time for State Agencies to do recordkeeping is approximately 1.42 minutes. Therefore, the total time per response is approximately 565.42 minutes or 9.42 hours.)

Estimated Total Annual Burden on Respondents: 428,745.53 hours. This includes 405,997.03 for State Agencies reporting and recordkeeping plus 27,748.50 Households reporting only. See the table below for estimated total annual burden for each type of respondent.

Respondent | Estimated number respondents | Estimated total responses annually per respondent | Estimated total annual responses (Col. bxc) | Estimated average number of hours per response | Estimated total hours (Col. dxe)
Reporting and Recordkeeping Burden
State Agencies Reporting | 53 | 858.43 | 45,497 | 8.9 | 404,923.30
State Agencies Recordkeeping | 53 | 858.43 | 45,497 | 0.0236 | 1,073.73
Subtotal Weighted Estimate States Reporting and Recordkeeping | 53 | 1,716.86 | 90,994 | 8.9236 | 405,997.03
Households Reporting | 45,497 | 1 | 45,497 | .5 | 22,748.50
Subtotal Households Reporting Only | 45,497 | 1 | 45,497 | .5 | 22,748.50
Grand Total Reporting & Recordkeeping Burden for the entire collection—State Agencies and Households | 45,550 | 1,718 | 136,491 | 9.4236 | 428,745.53

Dated: May 29, 2019.
Brandon Lipps,
Administrator, Food and Nutrition Service.

[FR Doc. 2019-12637 Filed 6-14-19; 8:45 am]

BILLING CODE 3410-30-P